DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On September 22, 2021, OFAC determined that the property and interests in property subject to U.S. jurisdiction of the following persons are blocked under the relevant sanctions authority listed below.

Individuals

1. MARTINEZ RENTERIA, Gilberto (a.k.a. “EL 50”; a.k.a. “EL CINCUENTA”; a.k.a. “EL GILIO”), Mexico; DOB 14 May 1987; POB Nogales, Sonora, Mexico; nationality Mexico; Gender Male; C.U.R.P. MARG870514HSRRNL00 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, Sergio VALENZUELA VALENZUELA.

2. GONZALEZ HIGUERA, Jaime Humberto (a.k.a. “EL TUNCO”; a.k.a. “TUNCO”), Mexico; DOB 25 Mar 1986; POB Sinaloa, Mexico; nationality Mexico; Gender Male; C.U.R.P. GOHJ860325HSLNGM02 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, Sergio VALENZUELA VALENZUELA.

3. ROMAN FIGUEROA, Jorge Damian (a.k.a. “EL SOLDADO”), Mexico; DOB 21 Aug 1978; POB Guaymas, Sonora, Mexico; nationality Mexico; Gender Male; C.U.R.P. ROFJ780821HSRMGR10 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, Sergio VALENZUELA VALENZUELA.

4. PINEDA ARMENTA, Leonardo (a.k.a. “EL 20”; a.k.a. “EL TWENTY”; a.k.a. “EL VEINTE”), Mexico; DOB 31 Mar 1970; POB Los Mochis, Sinaloa, Mexico; nationality Mexico; Gender Male; C.U.R.P. PIAL700331HSLNRN00 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, Sergio VALENZUELA VALENZUELA.

5. CARRILLO JIMENEZ, Luis Alberto, Mexico; DOB 15 Aug 1979; POB Nogales, Sonora, Mexico; nationality Mexico; Gender Male; C.U.R.P. CAJL790815HSRRMS05 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, Sergio VALENZUELA VALENZUELA.

6. ROCHIN HURTADO, Meliton (a.k.a. “EL 63”; a.k.a. “EL SIXTY THREE”), Mexico; DOB 28 Oct 1975; POB Hermosillo, Sonora, Mexico; nationality Mexico; Gender Male; C.U.R.P. ROHM751028HSRCRL00 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, Sergio VALENZUELA VALENZUELA.

7. MARRUFO CABRERA, Miguel Raymundo, Tlaxcala No. 10, Col. Valle Dorado 10, Cananea, Sonora 84620, Mexico; DOB 11 Sep 1963; POB Naco, Sonora, Mexico; nationality Mexico; Gender Male; C.U.R.P. MACM630911HSRRBG02 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, Sergio VALENZUELA VALENZUELA.

8. VALENZUELA VALENZUELA, Sergio (a.k.a. “GIGIO”; a.k.a. “YIYO”), Mexico; DOB 20 Aug 1969; POB Los Mochis, Sinaloa, Mexico; nationality Mexico; Gender Male; C.U.R.P. VAVS690820HSLLLR00 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, the SINALOA CARTEL and Ismael ZAMBADA GARCIA.

Entities

1. ACUAINDUSTRIA NARCISO MENDOZA, S.C. DE R.L. DE C.V., Hermosillo, Sonora, Mexico; Organization Established Date 17 Sep 2004; Folio Mercantil No. 33649 (Mexico) [SDNTK] (Linked To: ROCHIN HURTADO, Meliton). Designated pursuant to section 805(b)(3) of the Kingpin Act, 21 U.S.C. 1904(b)(3), for being owned, controlled, or directed by, or acting for or on behalf of, Meliton ROCHIN HURTADO [SDNTK].

2. CLUB INDIOS ROJOS DE JUAREZ, S.A. DE C.V., Ciudad Juarez, Chihuahua, Mexico; Organization Established Date 05 Apr 2005; Folio Mercantil No. 21708 (Mexico) [SDNTK] (Linked To: MARRUFO CABRERA, Miguel Raymundo). Designated pursuant to section 805(b)(3) of the Kingpin Act, 21 U.S.C. 1904(b)(3), for being owned, controlled, or directed by, or acting for or on behalf of, Miguel Raymundo MARRUFO CABRERA [SDNTK].

Dated: September 22, 2021.
Bradley T. Smith,
Acting Director, Office of Foreign Assets Control, U.S. Department of the Treasury.

[FR Doc. 2021-20899 Filed 9-24-21; 8:45 am]

BILLING CODE 4810-AL-P